Title 3—

The President

Proclamation 7865 of January 25, 2005

60th Anniversary of the Liberation of the Auschwitz

Concentration Camp, 2005

By the President of the United States of America

A Proclamation

At the Auschwitz concentration camp, evil found willing servants and innocent victims. For almost 5 years, Auschwitz was a factory for murder where more than a million lives were taken. It is a sobering reminder of the power of evil and the need for people to oppose evil wherever it exists. It is a reminder that when we find anti-Semitism, we must come together to fight it.

In places like Auschwitz, evidence of the horror of the Holocaust has been preserved to help the world remember the past. We must never forget the cruelty of the guilty and the courage of the victims at Auschwitz and other Nazi concentration camps.

During the Holocaust, evil was systematic in its implementation and deliberate in its destruction. The 60th anniversary of the liberation of Auschwitz is an opportunity to pass on the stories and lessons of the Holocaust to future generations. The history of the Holocaust demonstrates that evil is real, but hope endures.

NOW, THEREFORE, I, GEORGE W. BUSH, President of the United States of America, by virtue of the authority vested in me by the Constitution and laws of the United States, do hereby proclaim January 27, 2005, as the 60th anniversary of the Liberation of the Auschwitz Concentration Camp. I call upon all Americans to observe this occasion with appropriate ceremonies and programs to honor the victims of Auschwitz and the Holocaust. May God bless their memory and their families, and may we always remember.

IN WITNESS WHEREOF, I have hereunto set my hand this twenty-fifth day of January, in the year of our Lord two thousand five, and of the Independence of the United States of America the two hundred and twenty-ninth.

B

[FR Doc. 05-1776

Filed 1-27-05; 9:58 am]

Billing code 3195-01-P